INTERNATIONAL TRADE COMMISSION

Privacy Act of 1974; System of Records

AGENCY: United States International Trade Commission (USITC).

ACTION: Notice of a new system of records.

SUMMARY: In accordance with the Privacy Act of 1974 (Privacy Act), the United States International Trade Commission (USITC or Commission) proposes to add a new system of records to collect information in response to a public health emergency. This system of records maintains information collected in response to a public health emergency and will collect information from USITC personnel (political appointees, employees, detailees, interns, and volunteers), contractors, visitors, job applicants, and others who access or seek to access the USITC worksite, to assist the USITC with maintaining a safe and healthy workplace and to protect its workforce from risks associated with communicable diseases.

DATES: The system of records will become effective upon publication in today's Federal Register, with the exception of the routine uses that will be effective on January 6, 2022. The USITC invites written comments on the routine uses and other aspects of this system of records. Submit any comments by January 6, 2022.

ADDRESSES: You may submit comments via the Electronic Document Filing System (EDIS) at https://edis.usitc.gov. All submissions must include the investigation number (MISC-043), along with a physical or electronic signature on the cover letter. Any information that you provide, including personal information, will be publicly available for viewing.

FOR FURTHER INFORMATION CONTACT: Michael O'Rourke, (202) 708-1390, Privacy Officer, United States International Trade Commission, 500 E St. SW, Washington, DC 20436, at privacy@usitc.gov. Hearing-impaired persons can obtain information on this matter by contacting the Commission's TDD terminal on 202-205-1810.

SUPPLEMENTARY INFORMATION: To collect and maintain contractor, visitor, and job applicant disclosures, the USITC is establishing ITC-4, Public Health and Safety Records, a system of records under the Privacy Act. The USITC is committed to maintaining a safe and healthy workplace and to protect its workforce from risks associated with a public health emergency. To ensure and maintain the safety of all USITC personnel, contractors, visitors, job applicants, and others who access or seek to access the USITC worksite during a public health emergency, the USITC may develop and institute safety measures that require the collection of personal information. For further information on how the USITC will maintain records relating to employee requests for reasonable and religious accommodations, please refer to ITC-3, Reasonable Accommodation Records.

Records may include information on individuals' vaccination status and information related to accommodations based on disability or a sincerely held religious belief. Records may also include information on individuals who have been suspected or confirmed to have contracted a disease or illness, or who have been exposed to an individual who had been suspected or confirmed to have contracted a disease or illness, related to a declared public health emergency. Records may also include information on the individual circumstances surrounding the disease or illness, such as dates of suspected exposure, testing results, symptoms, treatments, and other related health status information. Any contact tracing that the USITC conducts will involve collecting information about USITC personnel, contractors, and visitors who are exhibiting symptoms or who have tested positive for an infectious disease in order to identify and notify other USITC personnel, contractors, and visitors with whom they may have come into contact and who may have been exposed.

As required by subsection 552a(r) of the Privacy Act (5 U.S.C. 552a(r)), the USITC has provided a report to the Office of Management and Budget, the Chair of the Committee on Oversight and Reform of the House of Representatives, and the Chair of the Committee on Homeland Security and Governmental Affairs of the Senate.

SYSTEM NAME AND NUMBER:

ITC-4, Public Health and Safety Records

SECURITY CLASSIFICATION:

Non-classified.

SYSTEM LOCATION:

The Office of Human Resources, U.S. International Trade Commission, 500 E Street SW, Washington, DC 20436 maintains the records. Records may also be maintained at an additional location for Business Continuity Purposes. Duplicate systems may exist, in part, for administrative purposes in the office to which the employee is assigned.

SYSTEM MANAGER(S):

Director, Office of Human Resources, U.S. International Trade Commission, 500 E Street SW, Washington, DC 20436.

AUTHORITY FOR MAINTENANCE OF THE SYSTEM:

Authority for maintenance of the system includes the following with any revisions or amendments: 19 U.S.C. 1331(a)(1)(A)(iii); 29 U.S.C. 654, 668; 42 U.S.C. 247d; Executive Order 13991 (Jan. 20, 2021); Executive Order 14042 (Sept. 9, 2021); and Executive Order 14043 (Sept. 9, 2021).

PURPOSE(S) OF THE SYSTEM:

The purpose of this system is to assist the USITC with maintaining a safe and healthy workplace and to protect its workforce from risks associated with communicable diseases that the Secretary of the Department of Health and Human Services has determined to be a public health emergency pursuant to the Public Health Service Act (42 U.S.C. 247d) (Public Health Emergency). Records in this system may be collected, maintained, and used to: (1) Determine who may be allowed access to the USITC worksite and what testing or medical screening is necessary before a person may enter; (2) respond to a significant risk of harm to USITC personnel, contactors, and visitors, as well as to any others at the USITC worksite; (3) document reports that USITC personnel, contractors, or any persons who have been at the USITC worksite may have or may have been exposed to a communicable disease that is the subject of a Public Health Emergency; (4) perform contact tracing investigations of and notifications to USITC personnel, contractors, and visitors known or suspected of exposure to a communicable diseases that are the subject of a Public Health Emergency; (5) implement such actions (e.g., quarantine or isolation) as necessary to prevent the introduction, transmission, and spread of a communicable disease that is the subject of a Public Health Emergency; and (6) comply with Occupational Safety and Health Administration Act recordkeeping requirements.

CATEGORIES OF INDIVIDUALS COVERED BY THE SYSTEM:

All USITC personnel (political appointees, employees, detailees, interns, and volunteers), contractors, visitors, job applicants, and others who access or seek to access the USITC worksite.

CATEGORIES OF RECORDS IN THE SYSTEM:

The categories of records in this system include, but are not limited to: Biographical information (name and contact information); health information (body temperature, dates of and symptoms relating to a potential or actual exposure to a pathogen, vaccination information, medical information); information indicating that an individual has received an accommodation based on disability or sincerely held religious belief, practice, or observance; contact tracing information (dates of visits to the USITC worksite, locations visited within the USITC worksite; duration of time spent in each location, potential contacts between potentially contagious persons and others at the USITC worksite); testing results (negative test results, confirmed or unconfirmed positive test results, and documents related to the reasons for testing or other aspects of test results); and subsequent actions taken by the USITC to address an incident (identifying and contact information of individuals who are suspected or confirmed to have contracted or been exposed to a communicable disease that is the subject of a Public Health Emergency, individual circumstances and dates of suspected exposure). The USITC will use this information to maintain a safe and healthy workplace and to protect its workforce. Although the USITC does not intend to collect family medical information, an individual may indicate that they were exposed to specific family members who have been diagnosed with, or are suspected to have, the disease in question. To the extent that the USITC acquires this information inadvertently, the USITC will store such information with the employee's confidential medical record that is stored separately from an employee's personnel file.

RECORD SOURCE CATEGORIES:

Subject individuals; subject individuals' supervisors and other agency officials with a need to know; related correspondence from organizations or persons.

ROUTINE USES OF RECORDS MAINTAINED IN THE SYSTEM, INCLUDING CATEGORIES OF USERS AND PURPOSES OF SUCH USES:

The USITC may disclose information about covered individuals without consent as permitted by the Privacy Act, 5 U.S.C. 552a(b), and by USITC General Routine Uses A-C and E-K, M-N. See 82 FR 45046, 45066 (Sept. 27, 2017) for Appendix A: General Routine Uses Applicable to More Than One System of Records. The USITC may disclose information in this system to any Federal, State, or local agency, organization or individual to the extent necessary to obtain information or witness cooperation if there is reason to believe the recipient possesses information related to the matter. The USITC may disclose information to a Federal, State, or local agency to the extent necessary to comply with laws governing reporting of infectious diseases. The USITC may produce anonymized summary descriptive statistics and analytical studies, as a data source for management information, in support of the function for which the records are collected and maintained, or for related personnel management functions or manpower studies. The USITC may also disclose to USITC personnel, contractors, visitors, emergency contacts, or others to notify an individual who (1) has been exposed or may have potentially been exposed to a communicable disease that is the subject of a Public Health Emergency of information regarding the exposure or potential exposure, or (2) may have reason to know of circumstances that increase the risk of such exposure. For such disclosures, to the extent possible, all information will be anonymized.

POLICIES AND PRACTICES FOR STORAGE OF RECORDS:

The USITC will maintain records in paper and electronic form, including on computer databases, all of which are stored in a secure location.

POLICIES AND PRACTICES FOR RETRIEVAL OF RECORDS:

The USITC will generally retrieve records by the name of the individual, contact information, or other related information.

POLICIES AND PRACTICES FOR RETENTION AND DISPOSAL OF RECORDS:

The records are maintained in accordance the National Archives and Records Administration's (NARA's) General Records Retention Schedule 2.7, Employee Health and Safety Records. The USITC will dispose of records that have met required retention periods in accordance with NARA guidelines and USITC policy and procedures. The USITC will shred paper records and remove electronic records in accordance with National Institute of Standards and Technology (NIST) guidelines for media sanitization.

ADMINISTRATIVE, TECHNICAL, AND PHYSICAL SAFEGUARDS:

The USITC has adopted appropriate administrative, technical, and physical controls in accordance with the USITC's security program to protect the security, confidentiality, availability, and integrity of the information, and to ensure that records are not disclosed to or accessed by unauthorized individuals. Access to this system of records is limited to persons who have a need to know the information for the performance of their official duties.

Paper records are stored in locked file cabinets in areas of restricted access that are locked throughout the workday and after office hours. Only authorized individuals can access the cabinets and the rooms in which they are stored. Only authorized individuals with a need to know access the electronic records in this system through the use of safeguards such as multifactor authentication.

RECORD ACCESS PROCEDURES:

Individuals wishing to request access to their records should contact the Privacy Act Officer, Office of the Secretary, U.S. International Trade Commission, 500 E Street SW, Washington, DC 20436. Individuals must furnish the following information for their records to be located and identified:

1. Full name(s), current address, date and place of birth;

2. Dates of employment;

3. Identification of the relevant system of records, if possible;

4. Description of the record sought; and

5. Signature.

Individuals requesting access must comply with the Commission's Privacy Act regulations on verification of identity and access to such records, available at 19 CFR 201.22-201.32.

CONTESTING RECORD PROCEDURES:

See Record Access Procedures above.

NOTIFICATION PROCEDURES:

See Record Access Procedures above.

EXEMPTIONS PROMULGATED FOR THE SYSTEM:

None.

HISTORY:

None.

By order of the Commission.
Issued: December 1, 2021.
Lisa Barton,
Secretary to the Commission.

[FR Doc. 2021-26431 Filed 12-6-21; 8:45 am]

BILLING CODE 7020-02-P